DEPARTMENT OF ENERGY

Federal Energy Regulatory Commission

[Docket No. EL17-62-000]

Potomac Economics, Ltd. v. PJM Interconnection, LLC; Notice of Complaint

Take notice that on April 6, 2017, pursuant to sections 206 and 306 of the Federal Power Act, 16 U.S.C. 824e and 825e, and Rule 206 of the Federal Energy Regulatory Commission's (Commission) Rules of Practice and Procedure, 18 CFR 385.206 (2016), Potomac Economics, Ltd. (Complainant) filed a formal complaint against PJM Interconnection, LLC (Respondent) seeking revision of Respondent's Open Access Transmission Tariff and Reliability Assurance Agreement Among Load-Serving Entities in the PJM Region (Agreements). Complainant asserts that the Commission should direct the Respondent to revise these agreements by eliminating the existing pseudo-tie requirement that Complainant argues is unjust, unreasonable, and unduly discriminatory, all as more fully explained in the complaint.

Complainant certifies that copies of the complaint were served on Respondent, the Organization of PJM States, Inc. agencies, and all of the parties in Docket No. ER17-1138-000.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainant.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on May 8, 2017.

Dated: April 6, 2017.
Kimberly D. Bose,
Secretary.

[FR Doc. 2017-07545 Filed 4-13-17; 8:45 am]

BILLING CODE 6717-01-P